DEPARTMENT OF COMMERCE

International Trade Administration

[A-469-814]

Chlorinated Isocyanurates from Spain: Preliminary Results of Antidumping Duty Administrative Review

AGENCY: Import Administration, International Trade Administration, Department of Commerce.

SUMMARY: In response to timely requests by Aragonesas Industrias y Energía S.A. (“Aragonesas”), and Biolab, Inc., Clearon Corporation and Occidental Chemical Corporation (collectively, “the Petitioners”), the Department of Commerce (“the Department”) is conducting an administrative review of the antidumping duty order on chlorinated isocyanurates (“chlorinated isos”) from Spain with respect to Aragonesas. The period of review (“POR”) is December 20, 2004, through May 31, 2006.

The Department has preliminarily determined that Aragonesas made U.S. sales of chlorinated isos at prices less than normal value (“NV”). If these preliminary results are adopted in our final results of administrative review, the Department will instruct U.S. Customs and Border Protection (“CBP”) to assess antidumping duties on all appropriate entries. In addition, the Department has received information sufficient to warrant a successor-in-interest analysis in this administrative review. Based on this information, the Department preliminarily determines that Aragonesas is the successor-in-interest to Aragonesas Delsa S.A. (“Delsa”) for purposes of determining antidumping duty liability. Interested parties are invited to comment on these preliminary results. We will issue the final results of review no later than 120 days from the date of publication of this notice.

EFFECTIVE DATE: July 9, 2007.

FOR FURTHER INFORMATION CONTACT: Thomas Martin or Mark Manning at (202) 482-3936 or (202) 482-5253, respectively; AD/CVD Operations, Office 4, Import Administration, International Trade Administration, U.S. Department of Commerce, 14th Street and Constitution Avenue, NW., Washington, DC 20230.

SUPPLEMENTARY INFORMATION: On June 24, 2005, the Department published in the Federal Register an antidumping duty order on chlorinated isocyanurates from Spain. See Chlorinated Isocyanurates from Spain: Notice of Antidumping Duty Order, 70 FR 36562 (June 24, 2005). In response to timely requests filed by the Petitioners and Aragonesas, the Department published a notice of initiation of an administrative review. See Initiation of Antidumping and Countervailing Duty Administrative Reviews and Request for Revocation in Part, 71 FR 42626 (July 27, 2006). The POR for this administrative review is December 20, 2004, through May 31, 2006.

On July 26, 2006, the Department issued an antidumping duty questionnaire to Aragonesas. On August 7, 2006, Aragonesas requested that the Department allow it to limit its reporting of cost of production (“COP”) and constructed value (“CV”) information in this review to exclude the last twelve days of 2004. In a letter dated August 9, 2006, the Department granted Aragonesas' request and permitted it to limit its COP and CV reporting to information based on its fiscal year (i.e., for calendar year 2005 and January through May, 2006). On September 19, 2006, Aragonesas requested that the Department permit Aragonesas to report in its home market sales database only metric ton sack (“supersack”) sales in Spain, or alternatively, only supersack sales and the one or two most similar models sold in Spain. In a letter dated October 3, 2006, the Department rejected Aragonesas' request and informed Aragonesas that it was responsible for reporting all home market sales of subject merchandise, regardless of the packaging characteristics applicable to the sale. The Department found that Aragonesas' proposed reporting methodology excluded the possibility of similar matches with U.S. sales with different packaging characteristics.

On September 13, 2006, the Department received Aragonesas' response to section A of the antidumping questionnaire. On October 3, 2006, the Department received Aragonesas' response to sections B and C of the antidumping questionnaire. On October 17, 2006, the Department received Aragonesas' response to section D of the antidumping questionnaire. We issued supplemental questionnaires to Aragonesas on November 7, 2006, November 21, 2006, December 1, 2006, December 12, 2006, January 24, 2007, February 9, 2007, March 12, 2007, March 23, 2007, and April 17, 2007. Aragonesas filed timely responses to each questionnaire.

The Department extended the time limit for the preliminary results in this review twice, once by 90 days, and later by an additional 30 days. See Chlorinated Isocyanurates From Spain: Extension of Time Limit for Preliminary Results of the First Administrative Review, 72 FR 7603 (February 16, 2007); Chlorinated Isocyanurates from Spain: Extension of Time Limit for Preliminary Results of the First Administrative Review, 72 FR 23800 (May 1, 2007).

In its questionnaire responses, Aragonesas provided information regarding its relationship with an affiliated producer of chlorinated isos during the POR. After an analysis of this information, the Department determined that, in accordance with 19 CFR 351.401(f), it is not appropriate to collapse Aragonesas and the affiliated producer for purposes of this review because: (a) The common ownership between the corporate group consisting of Ercros Industrial, S.A. (“Ercros”) (Aragonesas' parent company) and Aragonesas, and the affiliated producer, is not significant; (b) the management overlap between the corporate group consisting of Ercros and Aragonesas, and the affiliated producer, is not significant; and (c) although there are significant intertwined operations between the corporate group consisting of Ercros and Aragonesas, and the affiliated producer, most of these intertwined operations are between Ercros, rather than Aragonesas, and the affiliate. Because of the proprietary nature of the details of the Department's decision, a complete explanation is contained in the Memorandum from Abdelali Elouaradia, Office Director, to Stephen J. Claeys, Deputy Assistant Secretary for Import Administration, “Antidumping Duty Administrative Review of Chlorinated Isocyanurates from Spain: Collapsing Aragonesas Industrias y Energía, S.A. and [* * *],” dated May 2, 2007 (“Collapsing Memorandum”). Thus, the Department determined that there is no significant potential for manipulation of price if the affiliate does not receive the same antidumping duty rate as Aragonesas. See Collapsing Memorandum at 8.

Scope of the Order

The products covered by this order are chlorinated isos. Chlorinated isos are derivatives of cyanuric acid, described as chlorinated s-triazine triones. There are three primary chemical compositions of chlorinated isos: (1) Trichloroisocyanuric acid (Cl3(NCO)3), (2) sodium dichloroisocyanurate (dihydrate) (NaCl2(NCO)3 2H2O), and (3) sodium dichloroisocyanurate (anhydrous) (NaCl2(NCO)3). Chlorinated isos are available in powder, granular, and tableted forms. This order covers all chlorinated isos.

Chlorinated isos are currently classifiable under subheadings 2933.69.6015, 2933.69.6021, and 2933.69.6050 of the Harmonized Tariff Schedule of the United States (“HTSUS”). The tariff classification 2933.69.6015 covers sodium dichloroisocyanurates (anhydrous and dihydrate forms) and trichloroisocyanuric acid. The tariff classifications 2933.69.6021 and 2933.69.6050 represent basket categories that include chlorinated isos and other compounds including an unfused triazine ring. Although the HTSUS subheadings are provided for convenience and customs purposes, the written description of the scope of this order is dispositive.

Past Scope Rulings

During the Department's less-than-fair-value (“LTFV”) investigation of chlorinated isos from Spain, Arch Chemicals, Inc. (“Arch”), an importer, argued that its patented, formulated, chlorinated isos tablet is not covered by the scope of the investigation. In the Final LTFV Determination, the Department found that Arch's patented chlorinated isos tablet is included within the scope of this antidumping duty investigation. See Chlorinated Isocyanurates From Spain: Notice of Final Determination of Sales at Less Than Fair Value, 70 FR 24506 (May 10, 2005) (“Final LTFV Determination”); see also Memorandum from Holly A. Kuga, Senior Office Director, to Barbara E. Tillman, Acting Deputy Assistant Secretary for Import Administration, “Scope of the Antidumping Duty Investigations of Chlorinated Isocyanurates from the People's Republic of China and Spain,” dated December 10, 2004.

Verification

As provided in section 782(i) of the Tariff Act of 1930, as amended (“the Act”), during the period May 7 through 18, 2007, the Department verified the sales and cost information submitted by Aragonesas in its questionnaire responses provided during the course of this review. We used standard verification procedures including examination of relevant accounting and production records, and original source documents provided by the respondent. See Memorandum from Thomas Martin, International Trade Compliance Analyst, to The File, “Verification of the Sales Response of Aragonesas Industrias y Energía, S.A. in the Antidumping Duty Administrative Review of Chlorinated Isocyanurates from Spain,” dated June 11, 2007; see also Memorandum from Michael P. Harrison to The File Regarding “Verification of the Cost Response of Aragonesas Industrias y Energía, S.A. in the Antidumping Review of Chlorinated Isocyanurates from Spain,” dated June 27, 2007.

Successor-In-Interest Analysis

In accordance with section 751(b) of the Act, the Department is conducting a successor-in-interest analysis to determine whether Aragonesas is the successor-in-interest to Delsa for purposes of determining antidumping liability with respect to the subject merchandise. In making such a successor-in-interest determination, the Department examines several factors including, but not limited to, changes in: (1) Management; (2) production facilities; (3) supplier relationships; and (4) customer base. See, e.g., Stainless Steel Bar from Italy: Final Results of Antidumping Duty Administrative Review and Rescission of Review, 70 FR 46480, 46481 (August 10, 2005) (“Stainless Steel Bar from Italy”); Notice of Final Results of Changed Circumstances Antidumping Duty Administrative Review: Polychloroprene Rubber From Japan, 67 FR 58, 58-59 (January 2, 2002) (“Polychloroprene Rubber from Japan”); Brass Sheet and Strip from Canada; Final Results of Antidumping Duty Administrative Review, 57 FR 20460, at Comment 1 (May 13, 1992) (“Canadian Brass”). While no individual factor or combination of these factors will necessarily provide a dispositive indication, the Department will generally consider the new company to be the successor to the previous company if its resulting operation is not materially dissimilar to that of its predecessor. See, e.g., Stainless Steel Bar from Italy, 70 FR at 46481; Polychloroprene Rubber from Japan 67 FR at 58; Fresh and Chilled Atlantic Salmon From Norway; Final Results of Changed Circumstances Antidumping Duty Administrative Review, 64 FR 9979, 9979-9980 (March 1, 1999); Fresh and Chilled Atlantic Salmon from Norway; Initiation and Preliminary Results of Changed Circumstances Antidumping Duty Administrative Review, 63 FR 50880, 50881 (September 23, 1998) (unchanged in final results); Industrial Phosphoric Acid from Israel: Final Results of Changed Circumstances Review, 59 FR 6944, at Comment 1 (February 14, 1994); Canadian Brass, at Comment 1. Thus, if the evidence demonstrates that, with respect to the production and sale of the subject merchandise, the new company operates as the same business entity as the former company, the Department will generally accord the new company the same antidumping duty treatment as its predecessor.

We preliminarily determine that Aragonesas is the successor-in-interest to Delsa. Aragonesas explained in its questionnaire response that Delsa was a separately incorporated company, wholly-owned by Uralita Group S.A. (“Uralita”), and held within Uralita's Chemical Division. The Chemical Division of Uralita consisted of three separately incorporated companies: Delsa, Aragonesas Industrias y Energía S.A., and Aiscondel S.A. In June 2005, Uralita sold the Chemical Division to Ercros. In December 2005, Ercros consolidated Delsa and the two other companies into one company, Aragonesas (the POR respondent). As a result of the consolidation in December 2005, Delsa's separate corporate board of three members was eliminated, and replaced by a sole director for all three Aragonesas business divisions that reports to the Ercros board. The Department has examined the information placed on the record by Aragonesas concerning successorship. Based upon our review, we preliminarily find that there were no changes in key managerial positions or the production facilities in the operating unit that produces subject merchandise. Furthermore, the Department preliminarily finds no evidence of any change in supplier relationships or the customer base stemming from the sale of Delsa, and the subsequent formation of Aragonesas.

Therefore, the Department preliminarily finds that there has been little change to the operating unit that produces subject merchandise as a result of the sale to a new corporate parent company, Ercros. The only change is the reorganized directorship, and the number of board members. Accordingly, the Department preliminarily finds that Aragonesas is the successor-in-interest to Delsa, and should receive the same antidumping duty treatment with respect to chlorinated isos as the respondent from the Final LTFV Determination, the former company Delsa.

Comparisons to Normal Value

To determine whether Aragonesas sold chlorinated isos in the United States at prices less than NV, the Department compared the export price (“EP”) of individual U.S. sales to the weighted-average NV of sales of the foreign like product made in the ordinary course of trade in a month contemporaneous with the month in which the U.S. sale was made. See section 777A(d)(2) of the Act; see also section 773(a)(1)(B)(i) of the Act. Section 771(16) of the Act defines foreign like product as merchandise that is identical or similar to subject merchandise and produced by the same person and in the same country as the subject merchandise. Thus, we considered all products covered by the scope of the order, that were produced by the same person and in the same country as the subject merchandise, and sold by Aragonesas in the home market during the POR, to be foreign like products for the purpose of determining appropriate product comparisons to chlorinated isos sold in the United States.

Product Comparisons

In accordance with section 771(16) of the Act, the Department considered all products produced by the respondent covered by the description in the “Scope of the Order” section, above, to be foreign like products for purposes of determining appropriate product comparisons to U.S. sales. Pursuant to 19 CFR 351.414(e)(2), the Department compared U.S. sales made by Aragonesas to sales made in the home market within the contemporaneous window period, which extends from three months prior to the U.S. sale until two months after the sale. Where there were no sales of identical merchandise in the comparison market made in the ordinary course of trade to compare to U.S. sales, the Department compared U.S. sales to sales of the most similar foreign like product made in the ordinary course of trade. In making the product comparisons, the Department matched foreign like products based on the physical characteristics reported by Aragonesas in the following order: chemical structure, free available chlorine content, physical form, and packaging.

Export Price

The Department based the price of Aragonesas' U.S. sales on EP methodology, in accordance with section 772(a) of the Act, because the subject merchandise was sold directly by Aragonesas to the first unaffiliated purchaser in the United States prior to importation and constructed export price (“CEP”) methodology was not otherwise indicated. We based EP on packed prices to unaffiliated purchasers in the United States. Aragonesas reported its U.S. sales on either a delivered duty paid or delivered duty unpaid basis. We made deductions from the starting price, where appropriate, for foreign inland freight, international freight, foreign inland and marine insurance, foreign and U.S. brokerage and handling, U.S. inland freight and U.S. duty, in accordance with section 772(c)(2) of the Act and 19 CFR 351.402.

The Department excluded specified quantities of Aragonesas' merchandise sold in the U.S., for reasons that are of a business proprietary nature. See Memorandum from Thomas Martin, International Trade Compliance Analyst, to Edward Yang, Senior Enforcement Coordinator, “Whether Certain Merchandise Sold By Aragonesas Industrias y Energía, S.A Constitutes Subject Merchandise and Foreign Like Product,” dated June 22, 2007 (“Scope Memorandum”).

Normal Value

After testing home market viability, whether home market sales to affiliates were at arm's-length prices, and whether home market sales were at below-cost prices, we calculated NV for Aragonesas as noted in the “Price-to-Price Comparisons” section of this notice.

A. Home Market Viability

In order to determine whether there was a sufficient volume of sales in the home market to serve as a viable basis for calculating NV, the Department compared Aragonesas' volume of home market sales of the foreign like product to the volume of U.S. sales of the subject merchandise, in accordance with section 773(a)(1)(C) of the Act. We excluded sales of merchandise that were not foreign like product or subject merchandise, for reasons that are of a business proprietary nature. See Scope Memorandum. Because Aragonesas' aggregate volume of home market sales of the foreign like product was greater than five percent of its aggregate volume of U.S. sales for the subject merchandise, the Department determined that its home market was viable.

B. Arm's-Length Test

The Department may calculate NV based on a sale to an affiliated party only if it is satisfied that the price to the affiliated party is comparable to the prices at which sales are made to parties not affiliated with the exporter or producer, i.e., sales at arm's-length. See 19 CFR 351.403(c). Sales to affiliated customers for consumption in the home market that are determined not to be at arm's-length are excluded from our analysis. In this proceeding, Aragonesas reported sales of the foreign like product to affiliated customers. To test whether these sales were made at arm's-length prices, the Department compared the prices of sales of comparable merchandise to affiliated and unaffiliated customers, net of all movement charges, direct selling expenses, and packing. Pursuant to 19 CFR 351.403(c), and in accordance with the Department's practice, when the prices charged to an affiliated party were, on average, between 98 and 102 percent of the prices charged to unaffiliated parties for merchandise comparable to that sold to the affiliated party, we determined that the sales to the affiliated party were at arm's-length. See Antidumping Proceedings: Affiliated Party Sales in the Ordinary Course of Trade, 67 FR 69186, 69187 (November 15, 2002). Where Aragonesas' sales to affiliated home market customers did not pass the arm's-length test we excluded those sales from our analysis.

C. Cost of Production Analysis

We calculated a margin for Delsa in the Final LTFV Determination, which was the most recently completed segment of this proceeding as of the publication date of the initiation of this review. In those calculations, the Department disregarded some sales made at prices that were below COP. As a result, in accordance with section 773(b)(2)(A)(ii) of the Act, the Department has determined that there are reasonable grounds to believe or suspect that Aragonesas, which the Department has preliminarily determined is the successor-in-interest to Delsa, sold the foreign like product at prices below the cost of producing the product during the instant POR. Accordingly, the Department initiated a sales below cost inquiry with respect to Aragonesas and required that Aragonesas provide a response to Section D of the questionnaire.

1. Calculation of Cost of Production

In accordance with section 773(b)(3) of the Act, for each foreign like product sold by Aragonesas during the POR, the Department calculated Aragonesas' weighted-average COP based on the sum of its materials and fabrication costs, plus amounts for general and administrative (“G&A”) expenses and interest expenses. See “Test of Comparison Market Sales Prices” section below for treatment of home market selling expenses. We relied on the COP information provided by Aragonesas in its questionnaire responses, except for the following instances where the information was not appropriately quantified or valued:

i) We adjusted Aragonesas' G&A expense rate to include certain non-operating expenses. We also adjusted the cost of goods sold used in the denominator of the expense rate calculation to correct an error in the amount of packing costs deducted.

ii) We adjusted the financial expense rate to exclude interest income from fixed income securities and to exclude an account titled “Profit of Companies by the Participation Method.” We also adjusted the cost of goods sold used in the denominator of the expense rate calculation to deduct an estimate of the amount of selling, general and administrative expenses for the consolidated group of companies.

For further discussion of these adjustments, see the Memorandum from Michael P. Harrison to Neal Halper, “Cost of Production and Constructed Value Adjustments for the Preliminary Results,” dated July 2, 2007.

2. Test of Comparison Market Sales Prices

In order to determine whether sales were made at prices below the COP, on a product-specific basis, the Department compared Aragonesas' adjusted weighted-average COP to the home market sales of the foreign like product, as required under section 773(b) of the Act. In accordance with sections 773(b)(1)(A) and (B) of the Act, in determining whether to disregard home market sales made at prices less than the COP, we examined whether such sales were made: (1) in substantial quantities within an extended period of time; and (2) at prices which permitted the recovery of all costs within a reasonable period of time in the normal course of trade. For purposes of this comparison, the Department used COP exclusive of selling and packing expenses. The prices were inclusive of billing adjustments and exclusive of any applicable movement charges, discounts and rebates, and direct and indirect selling expenses and packing expenses, revised where appropriate.

3. Results of the COP Test

Pursuant to section 773(b)(2)(C) of the Act, where less than 20 percent of a respondent's home market sales of a given product are at prices less than the COP, the Department does not disregard any below-cost sales of that product, because the Department determines that in such instances the below-cost sales were not made within an extended period of time and in “substantial quantities.” Where 20 percent or more of a respondent's sales of a given product are at prices less than the COP, the Department disregards the below-cost sales because they: (1) were made within an extended period of time in “substantial quantities,” in accordance with sections 773(b)(2)(B) and (C) of the Act; and (2) based on our comparison of prices to the weighted-average COPs for the POR, were at prices which would not permit the recovery of all costs within a reasonable period of time, in accordance with section 773(b)(2)(D) of the Act. Based on the results of our test, we found that, for certain products, more than 20 percent of Aragonesas' home market sales were at prices less than the COP and, in addition, such sales did not provide for the recovery of costs within a reasonable period of time. We therefore excluded these sales and used the remaining sales as the basis for determining NV, in accordance with section 773(b)(1) of the Act.

D. Calculation of Normal Value Based on Comparison Market Prices

We based NV on the prices at which the foreign like product was first sold by Aragonesas for consumption in the home market, in the usual commercial quantities, in the ordinary course of trade, and, to the extent possible, at the same level of trade (“LOT”) as the comparison U.S. sale. We excluded sales of merchandise that were not foreign like product, for reasons that are of a business proprietary nature. See Scope Memorandum. We calculated NV for Aragonesas using the reported gross unit prices to unaffiliated purchasers, or where appropriate, affiliated purchasers, which are based upon the following terms of delivery: carriage insurance paid, carriage paid, delivered duty paid, delivered duty unpaid, ex works, and free carrier. Where appropriate, the Department made adjustments to the starting price for billing adjustments. We deducted from the starting price, where appropriate, discounts and rebates, pursuant to section 773(a)(6)(B)(ii) of the Act. Based on our sales verification findings, we revised inland freight to account for certain unreported freight expenses. See Memorandum from Thomas Martin, International Trade Compliance Analyst, to the File, “Calculation Memorandum for the Preliminary Results for Aragonesas Industrias y Energia S.A.,” dated July 2, 2007 (“Calculation Memorandum”). We also made adjustments for differences in costs attributable to differences in the physical characteristics of the merchandise, in accordance with section 773(a)(6)(C)(ii) of the Act and 19 CFR 351.411. In addition, the Department made adjustments under section 773(a)(6)(C)(iii) of the Act and 19 CFR 351.410 for differences in circumstances of sale for imputed credit expenses. We also deducted home market packing costs and added U.S. packing costs, in accordance with section 773(a)(6)(A) and (B) of the Act.

Currency Conversion

Pursuant to section 773A(a) of the Act, we converted amounts expressed in foreign currencies into U.S. dollar amounts based on the exchange rates in effect on the dates of the U.S. sales, as reported by the Federal Reserve Bank of the United States.

Level of Trade

In accordance with section 773(a)(1)(B) of the Act, to the extent practicable, the Department determines NV based on sales in the comparison market at the same LOT as the EP or CEP sales in the U.S. market. The NV LOT is based on the starting price of the sales in the comparison market. Where NV is based on CV, the Department determines the NV LOT based on the LOT of the sales from which the Department derives selling expenses, general and administrative expenses, and profit for CV, where possible. See Notice of Preliminary Determination of Sales at Less Than Fair Value and Postponement of Final Determination: Fresh Atlantic Salmon From Chile, 63 FR 2664 (January 16, 1998) (unchanged in final determination). For EP sales, the U.S. LOT is based on the starting price of the sales to the U.S. market. For CEP sales, the U.S. LOT is based on the starting price of the sales to the U.S. market, as adjusted under section 772(d) of the Act. See Micron Technology, Inc. v. United States, 243 F.3d 1301, 1315 (Fed. Cir. 2001).

To determine whether NV sales are at a different LOT than the EP and CEP sales, the Department examines stages in the marketing process and level of selling functions along the chain of distribution between the producer and the customer. See 19 CFR 351.412(c)(2). Substantial differences in selling activities are a necessary, but not sufficient, condition for determining that there is a difference in the stages of marketing. Id.; see also Notice of Final Determination of Sales at Less Than Fair Value: Certain Cut-to-Length Carbon Steel Plate From South Africa, 62 FR 61731, 61732 (November 19, 1997). When the Department is unable to match U.S. sales to foreign like product sales in the comparison market at the same LOT as the EP sale, the Department may compare the U.S. sales to sales at a different LOT in the comparison market. In comparing EP sales at a different LOT in the comparison market, where the difference affects price comparability, as manifested by a pattern of consistent price differences between comparison-market sales at the NV LOT and comparison-market sales at the LOT of the export transaction, the Department makes a LOT adjustment under section 773(a)(7)(A) of the Act. For CEP sales, if the NV LOT is at a more advanced stage of distribution than the CEP LOT and there is no basis for determining whether the difference between the NV and CEP LOTs affects price comparability, the Department adjusts NV under section 773(A)(7)(B) of the Act (the CEP offset provision). Id. at 61732.

In this administrative review, Aragonesas had only EP sales in the U.S. market, thus the CEP methodology was not employed in this review. The Department obtained information from Aragonesas regarding the marketing stages involved in making the reported home market and U.S. sales, including a description of the selling activities performed for each channel of distribution. Aragonesas reported that it made EP sales in the U.S. market through a single distribution channel (i.e., sales to industrial users). Because all sales in the United States are made through a single distribution channel, we preliminarily determine that there is one LOT in the U.S. market. Aragonesas reported that it made sales in the home market through three channels of distribution (i.e., industrial customers, retail customers, and distributors). We compared the selling functions performed by Aragonesas for these three distribution channels and found that Aragonesas performed similar selling activities in the home market for the retail and distributor channels of distribution, and fewer selling activities for industrial home market customers. Thus, we preliminarily find that the retail and distributor channels of distribution constitute one NV LOT, while the channel of distribution for industrial customers is a second NV LOT. Moreover, we preliminarily find that the NV LOT for retail and industrial purchasers is at a more advanced stage than the NV LOT for industrial customers.

Finally, the Department compared the EP LOT to the two home market LOTs. The Department finds that selling activities performed by Aragonesas for industrial users in the U.S. market and home market are similar. Because selling activities for industrial users in the U.S. market (the only LOT in the U.S. market) and industrial users in the home market are similar, the Department preliminarily determines that, for sales to the U.S. and home markets during the POR that were made at this same LOT (i.e., sales to industrial users), the Department will not make an LOT adjustment to NV. However, where the Department matches sales between the U.S. and home markets where the home market sale is made at a more advanced LOT (i.e., retail and distributor channels of distribution) than the sale in the U.S. market, the Department will grant an LOT adjustment to NV. For additional details regarding the Department's LOT analysis, see Memorandum from Thomas Martin, International Trade Compliance Analyst, to Edward Yang, Senior Enforcement Coordinator, “Level of Trade Analysis: Aragonesas Industrias y Energía S.A. (Aragonesas),” dated June 22, 2007.

Preliminary Results of Review

As a result of this review, the Department preliminarily determines that the weighted-average dumping margin for the period December 20, 2004, through May 31, 2006, is as follows:

Manufacturer/Exporter | Weighted-Average Margin (percentage)
Aragonesas Industrias y Energía S.A. | 2.00

Disclosure and Public Hearing

We will disclose the calculations used in our analysis to parties to this segment of the proceeding within five days of the publication date of this notice. See 19 CFR 351.224(b). Interested parties who wish to request a hearing, or to participate if one is requested, must submit a written request to the Assistant Secretary for Import Administration, Room B-099, within 30 days of the date of publication of this notice. Requests should contain: (1) The party's name, address and telephone number; (2) the number of participants; and (3) a list of issues to be discussed. See 19 CFR 351.310(c). Issues raised in the hearing will be limited to those raised in the respective case briefs. Pursuant to 19 CFR 351.309, interested parties may submit written comments in response to these preliminary results. Unless the time period is extended by the Department, case briefs are to be submitted within 30 days after the date of publication of this notice in the Federal Register (see 19 CFR 351.309(c)). Rebuttal briefs, which must be limited to arguments raised in case briefs, are to be submitted no later than five days after the time limit for filing case briefs. See 19 CFR 351.309(d). Parties who submit arguments in this proceeding are requested to submit with the argument: (1) a statement of the issues; (2) a brief summary of the argument; and (3) a table of authorities cited. Further, we request that parties submitting written comments provide the Department with a diskette containing an electronic copy of the public version of such comments. Case and rebuttal briefs must be served on interested parties, in accordance with 19 CFR 351.303(f).

The Department will issue the final results of this administrative review, including the results of its analysis of issues raised in any written briefs, not later than 120 days after the date of publication of this notice, pursuant to section 751(a)(3)(A) of the Act.

Assessment Rates

Upon completion of the administrative review, the Department shall determine, and CBP shall assess, antidumping duties on all appropriate entries, in accordance with 19 CFR 351.212. In accordance with 19 CFR 351.212(b)(1), in these preliminary results of review, we calculated importer/customer-specific ad valorem duty assessment rates based on the ratio of the total amount of antidumping duties calculated for the examined sales to the total entered value of the examined sales for that importer/customer. Where the importer/customer-specific assessment rate is above de minimis (i.e., 0.50 percent ad valorem or greater), we will instruct CBP to assess the importer/customer-specific rate uniformly, as appropriate, on all entries of subject merchandise during the POR that were entered by the importer or sold to the customer. Within 15 days of publication in the Federal Register of the final results of review, the Department will issue instructions to CBP directing it to assess the final assessment rates (if above de minimis) uniformly on all entries of subject merchandise made by the relevant importer or sold to the relevant customer during the POR. Pursuant to 19 CFR 351.106(c)(2), the Department will instruct CBP to liquidate without regard to antidumping duties any entries for which the assessment rate is de minimis (i.e., less than 0.50 percent). The final results of this review shall be the basis for the assessment of antidumping duties on entries of merchandise covered by the final results of this review and for future deposits of estimated duties, where applicable.

The Department clarified its “automatic assessment” regulation on May 6, 2003. See Antidumping and Countervailing Duty Proceedings: Assessment of Antidumping Duties, 68 FR 23954 (May 6, 2003) (“Assessment Policy Notice”). This clarification will apply to entries of subject merchandise during the POR produced by any company included in the final results of review for which the reviewed company did not know that the merchandise it sold to the intermediary (e.g., a reseller, trading company, or exporter) was destined for the United States. In such instances, the Department will instruct CBP to liquidate unreviewed entries at the “All Others” rate if there is no rate for the intermediary involved in the transaction. See Assessment Policy Notice for a full discussion of this clarification.

Cash Deposit Requirements

The following cash deposit requirements will be effective for all shipments of the subject merchandise entered, or withdrawn from warehouse, for consumption on or after the publication date of the final results of this administrative review, as provided by section 751(a)(2)(C) of the Act: (1) the cash deposit rate for the company listed above will be that established in the final results of this review, except if the rate is less than 0.50 percent, and therefore, de minimis within the meaning of 19 CFR 351.106(c)(1), in which case the cash deposit rate will be zero; (2) for previously reviewed or investigated companies not participating in this review, the cash deposit rate will continue to be the company-specific rate published for the most recent period; (3) if the exporter is not a firm covered in this review, or the original LTFV investigation, but the manufacturer is, the cash deposit rate will be the rate established for the most recent period for the manufacturer of the merchandise; and (4) the cash deposit rate for all other manufacturers or exporters will continue to be 24.83 percent, the “All Others” rate made effective by the LTFV investigation. See Final LTFV Determination. These requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and notice are published in accordance with sections 751(a)(1) and 777(i)(1) of the Act and 19 CFR 351.221.

Dated: July 2, 2007.
David M. Spooner,
Assistant Secretary for Import Administration.

[FR Doc. E7-13231 Filed 7-6-07; 8:45 am]

BILLING CODE 3510-DS-S